ENVIRONMENTAL PROTECTION AGENCY

40 CFR Parts 124, 260, 264, 265, 270, and 271

[EPA-HQ-OLEM-2021-0397; FRL-8592-03-OLEM]

RIN 2050-AH24

Revisions to Standards for the Open Burning/Open Detonation of Waste Explosives; Extension of Comment Period

AGENCY: Environmental Protection Agency (EPA).

ACTION: Proposed rule; extension of comment period.

SUMMARY: The Environmental Protection Agency (EPA) is extending the comment period for the proposed rule entitled “Revisions to Standards for the Open Burning/Open Detonation of Waste Explosives.” EPA published the proposed rule in the Federal Register on March 20, 2024 (89 FR 19952) and the public comment period was scheduled to end on May 20, 2024. However, EPA has received requests for additional time to develop and submit comments on the proposal. In response to the requests for additional time, EPA is extending the comment period for an additional 31 days, through June 20, 2024.

DATES: Written comments must be received on or before June 20, 2024.

ADDRESSES: You may send comments, identified by Docket ID No. EPA-HQ-OLEM-2021-0397, by any of the following methods:

• Federal eRulemaking Portal: https://www.regulations.gov/ (our preferred method). Follow the online instructions for submitting comments.

• Mail: U.S. Environmental Protection Agency, EPA Docket Center, RCRA Docket, Mail Code 28221T, 1200 Pennsylvania Avenue NW, Washington, DC 20460.

• Hand Delivery/Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document.

FOR FURTHER INFORMATION CONTACT: Sasha Lucas-Gerhard (email address: gerhard.sasha@epa.gov, phone number: (202) 566-0346) or Paul Diss (email address: diss.paul@epa.gov, phone number: (202) 566-0321), in the Program Implementation and Information Division, Office of Resource Conservation and Recovery.

SUPPLEMENTARY INFORMATION:

I. Summary

On March 20, 2024, EPA published in the Federal Register (89 FR 19952) a proposed rule that would revise the RCRA regulations to clarify and add specificity to existing requirements for owners/operators of open burning and open detonation (OB/OD) units, including how and when to apply and implement the requirements in the permitting process.

In 1980, EPA prohibited OB/OD of hazardous waste due to the potential risks to human health and the environment. EPA allowed one exception to this prohibition for OB/OD of waste explosives because at the time, there were no safe alternative treatment options for these wastes. Since that time, facilities have been required to determine and continue to evaluate whether alternatives are available. Recent findings from the National Academies of Sciences, Engineering, and Medicine and EPA identify several safe alternatives that are now available for certain types of explosive wastes. The proposed rule would improve implementation of requirements for how facilities must evaluate and use alternative technologies determined to be safe and available for treating waste explosives in lieu of OB/OD, and would set new minimum technical standards for OB/OD where it remains the only available treatment option.

Specifically, EPA proposed to create new subparts for OB/OD units in parts 264 (applicable to permitted facilities) and 265 (applicable to interim status facilities). The new subparts contain requirements that would apply to all owners/operators conducting or seeking to conduct OB/OD of waste explosives, including activities conducted as part of RCRA cleanup and closure. The new subparts propose: certain requirements for OB/OD emergency permits and an exemption from the alternative technology evaluation and implementation regulations for the de minimis treatment of waste explosives by OB/OD; new provisions that would specify how and when owners/operators and permit authorities are to evaluate alternative treatment technologies for OB/OD, including specific information that would be required for facilities to demonstrate whether safe modes of treatment are available for specific waste streams and for waste analysis/characterization; new and revised regulatory provisions on timelines for implementing alternative technologies; wastes prohibited/restricted from OB/OD; technical standards for OB/OD units; delay of closure applicability to OB/OD units; clarifications to emergency provisions; and procedures for permitting of mobile treatment units (MTUs) for waste explosives.

The comment period for the proposed rule was scheduled to end on May 20, 2024. Since publication, EPA has received requests to extend that comment period to allow for additional time to develop comments on the proposed rule. After considering the requests, EPA has decided to extend the comment period for an additional 31 days, through June 20, 2024.

II. Public Participation

Submit your comments, identified by Docket ID No. EPA-HQ-RCRA-2021-0397, at https://www.regulations.gov (our preferred method), or the other methods identified in the ADDRESSES section of this document. Once submitted, comments cannot be edited or removed from the docket. EPA may publish any comment received to its public docket. Do not submit to EPA's docket at https://www.regulations.gov/ any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

List of Subjects in 40 CFR Parts 124, 260, 264, 265, 270, and 271

Environmental protection, Administrative practice and procedure, Air pollution control, Confidential business information, Hazardous materials transportation, Hazardous waste, Indians-lands, Insurance, Intergovernmental relations, Packaging and containers, Penalties, Reporting and recordkeeping requirements, Security measures, Surety bonds, Water pollution control, Water supply.

Dated: May 13, 2024.
Carolyn Hoskinson,
Director, Office of Resource Conservation and Recovery.

[FR Doc. 2024-10777 Filed 5-15-24; 8:45 am]

BILLING CODE 6560-50-P